DEPARTMENT OF COMMERCE

National Oceanic and Atmospheric Administration

15 CFR Part 922

[Docket No. 0612242956-7411-02]

RIN 0648-AT18

Establishment of Marine Reserves and a Marine Conservation Area Within the Channel Islands National Marine Sanctuary; Correction

AGENCY: National Marine Sanctuary Program (NMSP), National Ocean Service (NOS), National Oceanic and Atmospheric Administration (NOAA), Department of Commerce (DOC).

ACTION: Final rule; correction.

SUMMARY: NOAA published a final rule on May 24, 2007 that established marine reserves and a marine conservation area in the Channel Islands Natioal Marine Sanctuary. That document contained a few clerical and printing errors. This document corrects and clarifies those three errors.

DATES: Pursuant to section 304(b) of the National Marine Sanctuaries Act, the final rule published on May 24, 2007 and the revised terms of designation shall take effect and become final after the close of a review period of 45 days of continuous session of Congress, that began on May 24, 2007. This correction only makes three non-substantive corrections and clarifications to that rule and does not change the calculation of the effective date. Announcement of the effective date of the final rule will be published in the Federal Register at a later date.

FOR FURTHER INFORMATION CONTACT: Sean Hastings, (805) 884-1472; e-mail: Sean.Hastings@noaa.gov.

SUPPLEMENTARY INFORMATION: NOAA published a document in the Federal Register on May 24, 2007 (72 FR 29208) establishing marine reserves and a marine conservation area in the Channel Islands National Marine Sanctuary. There was a printing error that requires clarification and two clerical errors that are being corrected by this document as described below.

Clarification of Changes to the Designation Document

The printing error affected the way in which the changes to the original designation document were portrayed to the reader. They did not, however, affect the substance of the actual revision. The following clarifies for the reader the changes that were made to the designation document by the May 24, 2007 Federal Register notice. In this notice, certain conventions have been used to highlight the revisions that were made via the preamble to the May 24, 2007 rule. New language is shown inside boldfaced arrows while language that was deleted is set off with bold-faced brackets:

Beginning of Revised Designation Document

Preamble

Under the authority of the Marine Protection, Research and Sanctuaries Act of 1972, Pub. L. 92-532, (the Act) the waters surrounding the northern Channel Islands and Santa Barbara Island are hereby designated a Marine Sanctuary for the purposes of preserving and protecting this unique and fragile ecological community.

Article 1. Effect of Designation

Within the area designated as the Channel Islands National Marine Sanctuary (the Sanctuary), described in Article 2, the Act authorizes the promulgation of such regulations as are reasonable and necessary to protect the values of the Sanctuary. Article 4 of this Designation lists those activities which may require regulation, but the listing of any activity does not by itself prohibit or restrict it. Restrictions or prohibitions may be accomplished only through regulation, and additional activities may be regulated only by amending Article 4.

Article 2. Description of the Area

The Sanctuary consists of an area of the waters off the coast of California, of approximately [1252.5] >1,128< square nautical miles [(nm)] >(nmi)< adjacent to the northern Channel Islands and Santa Barbara Island seaward to a distance of [6nm] >approximately 6 nmi<. The precise boundaries are defined by regulation.

Article 3. Characteristics of the Area That Give it Particular Value

The Sanctuary is located in an area of upwelling and in a transition zone between the cold waters of the California Current and the warmer Southern California Countercurrent. Consequently, the Sanctuary contains an exceptionally rich and diverse biota, including 30 species of marine mammals and several endangered species of marine mammals and sea birds. The Sanctuary will provide recreational experiences and scientific research opportunities and generally will have special value as an ecological, recreational, and esthetic resource.

Article 4. Scope of Regulation

Section 1. Activities Subject to Regulation

In order to protect the distinctive values of the Sanctuary, the following activities may be regulated within the Sanctuary to the extent necessary to ensure the protection and preservation of its marine features and the ecological, recreational, and esthetic value of the area:

a. Hydrocarbon operations

b. Discharging or depositing any substance

c. Dredging or alteration of, or construction on, the seabed

d. Navigation of vessels except fishing vessels or vessels [travelling] >traveling< within a Vessel Traffic Separation Scheme or Port Access Route designated by the Coast Guard outside of 1 nmi from any island

e. Disturbing marine mammals or birds by overflights below 1000 feet

f. Removing or otherwise deliberately harming cultural or historical resources

>g. Within a marine reserve, marine park, or marine conservation area, harvesting, removing, taking, injuring, destroying, possessing, collecting, moving, or causing the loss of any Sanctuary resource, including living or dead organisms or historical resources, or attempting any of these activities

h. Within a marine reserve, marine park, or marine conservation area, possessing fishing gear<

Section 2. Consistency With International Law

The regulations governing the activities listed in Section 1 of this article will apply to foreign flag vessels and persons not citizens of the United States only to the extent consistent with recognized principles of international law including treaties and international agreements to which the United States is signatory.

Section 3. Emergency Regulations

Where essential to prevent immediate, serious and irreversible damage to the ecosystem of the area, activities other than those listed in Section 1 may be regulated within the limits of the Act on an emergency basis for an interim period not to exceed 120 days, during which an appropriate amendment of this article would be proposed in accordance with the procedures specified in Article 6.

Article 5. Relation to Other Regulatory Programs

Section 1. Fishing

The regulation of fishing is not authorized under Article 4>, except within portions of the Sanctuary designated as marine reserves, marine parks, or marine conservation areas established pursuant to the goals and objectives of the Sanctuary and within the scope of the State of California's Final Environmental Document “Marine Protected Areas in NOAA's Channel Islands National Marine Sanctuary” (California Department of Fish and Game, October 2002), certified by the California Fish and Game Commission<. However, fishing vessels may be regulated with respect to discharges in accordance with Article 4, Section 1, paragraph (b) and aircraft conducting kelp bed surveys below 1000 feet can be regulated in accordance with Article 4, Section 1, paragraph (e). All regulatory programs pertaining to fishing, including particularly regulations promulgated under the California Fish and Game Code and Fishery Management Plans promulgated under the Fishery Conservation and Management Act of 1976, 16 U.S.C. 1801 et seq., shall remain in effect. All permits, licenses and other authorizations issued pursuant thereto shall be valid within the Sanctuary unless authorizing any activity prohibited by any regulation implementing Article 4. Fishing as used in this article and in Article 4 includes kelp harvesting.

Section 2. Defense Activities

The regulation of those activities listed in Article 4 shall not prohibit any activity conducted by the Department of Defense that is essential for national defense or because of emergency. Such activities shall be consistent with the regulations to the maximum extent practicable.

Section 3. Other Programs

All applicable regulatory programs shall remain in effect and all permits, licenses and other authorizations issued pursuant thereto shall be valid within the Sanctuary unless authorizing any activity prohibited by any regulation implementing Article 4. The Sanctuary regulations shall set forth any necessary certification procedures.

Article 6. Alterations to This Designation

This Designation can be altered only in accordance with the same procedures by which it has been made, including public hearings, consultation with interested federal and state agencies and the Pacific Regional Fishery Management Council, and approval by the President of the United States.

End of Revised Designation Document

Corrections

In FR Doc. E7-10096 (published on May 24, 2007) make the following corrections:

1. Amend instruction number eight (page 29233) to read: “Add Appendix B and Appendix C to subpart G to read as follows:”

2. Amend the heading for Appendix C to read: “Appendix C to Subpart G of Part 922—Marine Conservation Area Boundary”

Dated: July 26, 2007.
Elizabeth R. Scheffler,
Chief Financial Officer, Chief Administrator Officer, National Ocean Service.

[FR Doc. 07-3754 Filed 8-1-07; 8:45 am]

BILLING CODE 3510-NK-M